DEPARTMENT OF TRANSPORTATION

Office of the Secretary

Notice Regarding U.S. Carrier Authority To Serve Samoa

AGENCY: Office of the Secretary (OST), Department of Transportation (DOT).

ACTION: Notice.

SUMMARY: This notice advises U.S. carriers holding blanket open-skies route authority that effective July 9, 2019, Samoa will be removed from the Department of Transportation's list of Open Skies Agreements Currently Being Applied. This notice invites carriers seeking to provide scheduled foreign air transportation to Samoa after that date to file applications for exemption authority.

FOR FURTHER INFORMATION CONTACT: Brett Kruger, Chief, U.S. Carrier Licensing/Special Authorities Division (202) 366-8025, 1200 New Jersey Ave. SE, Washington, DC, 20590.

SUPPLEMENTARY INFORMATION: A number of U.S. carriers hold blanket open-skies route authority by certificate or exemption, to provide scheduled foreign air transportation to all of our foreign aviation partners that have entered into an open-skies agreement with the United States where that agreement is being applied. In this regard, the Department's Office of International Aviation maintains a list on its website of Open Skies Agreements Currently Being Applied between the United States and its open-skies partners, and updates the list as partners are added or removed.¹ The Department has stated that it will issue a Notice if an open-skies partner is removed from the list, and allow U.S. carriers holding blanket open-skies certificate authority 120 days to seek exemption authority to serve that foreign aviation partner, as the certificate authority to serve that foreign partner will no longer be effective 120 days after the publication date of the Notice.² The Department has further stated that it will also publish a notice in the Federal Register.

¹ See http://www.transportation.gov/policy/aviation-policy/open-skies-agreements-being-applied.

² See e.g., Orders 2007-4-2, 2007-7-3, and 2007-7-4.

On March 9, 2019, Samoa withdrew as a party to the Multilateral Agreement on the Liberalization of International Air Transportation (MALIAT), thereby ending its open-skies relationship with the United States as a multilateral partner.³ On March 11, 2019, the Department issued a Notice stating that it will remove Samoa from its list of Open Skies Agreements Currently Being Applied, effective July 9, 2019. The Department served its March 11 Notice on all certificated U.S. air carriers operating large aircraft; the U.S. Department of State (Office of Aviation Negotiations); and the Federal Aviation Administration.

³ The United States was informed through diplomatic channels that the Government of New Zealand, as depositary for the MALIAT, received the Government of Samoa's Notification of Withdrawal on March 9, 2018. Under Article 18 of the MALIAT, Samoa's withdrawal became effective March 9, 2019.

The Department accordingly invites U.S. carriers to file applications for exemption authority under 49 U.S.C. 40109, to provide scheduled foreign air transportation to Samoa on the basis of comity and reciprocity.⁴

⁴ U.S. carriers holding open-skies route authority by exemption that wish to serve Samoa should similarly file applications for specific exemption authority.

Signed in Washington, DC, on March 11, 2019.
Brian J. Hedberg,
Director, Office of International Aviation.

[FR Doc. 2019-04865 Filed 3-14-19; 8:45 am]

BILLING CODE 4910-9X-P